DEPARTMENT OF COMMERCE

National Institute of Standards and Technology

NIST Special Publication 2000-01: ABC's of Conformity Assessment

AGENCY: National Institute of Standards and Technology, Department of Commerce.

ACTION: Notice; request for comments.

SUMMARY: The National Institute of Standards and Technology (NIST) requests comments on the draft Special Publication (SP) 2000-01 ABC's of Conformity Assessment document. The draft ABC's of Conformity Assessment document is posted on the NIST website at: https://www.nist.gov/standardsgov/special-publications-conformity-assessment.

DATES: NIST requests comments on the draft ABC's of Conformity Assessment document. Comments must be received by February 26, 2018.

ADDRESSES: Comments may be submitted to NIST in the following ways:

• Electronic comments: Online submissions in electronic form may be sent to sp2000-01@nist.gov in any of the following formats: HTML; ASCII; Word; RTF; or PDF. Please include your name, organization's name (if any), and cite “Comments on Draft ABC's of Conformity Assessment” in all correspondence. Comments containing references, studies, research, and other empirical data that are not widely published should include copies of the referenced materials. The proposed update to the ABC's of Conformity Assessment document is available for review at https://www.nist.gov/standardsgov/special-publications-conformity-assessment. Comments submitted electronically, including attachments, will be posted to the NIST website unchanged.

• Written comments may be submitted by mail to Amy Phelps, National Institute of Standards and Technology, 100 Bureau Drive, Stop 2100, Gaithersburg, MD 20899.

FOR FURTHER INFORMATION CONTACT: Questions regarding the draft ABC's of Conformity Assessment document or this Request for Comments should be directed to Amy Phelps, by email at SP2000-01@nist.gov, or by phone at 301-975-4143.

SUPPLEMENTARY INFORMATION: The Office of Management and Budget (OMB) recently revised Circular A-119, “Federal Participation in the Development and Use of Voluntary Consensus Standards and in Conformity Assessment Activities,” in light of changes that have taken place in the world of regulation, standards, and conformity assessment since the Circular was last revised in 1998.¹ NIST is revising its conformity assessment materials to align with the updated Circular.

¹ See “OMB Circular A-119: Federal Participation in the Development and Use of Voluntary Consensus Standards and in Conformity Assessment Activities,” which was published on January 27, 2016 and may be found at: https://obamawhitehouse.archives.gov/sites/default/files/omb/inforeg/revised_circular_a-119_as_of_1_22.pdf.

On February 28, 2017, NIST hosted a workshop to engage the conformity assessment community in the development of its conformity assessment materials. Updates to the conformity assessment materials reflect growth and evolution in the conformity assessment community as well as updates to the guidance in the revised OMB Circular A-119.

Taking into consideration the feedback received from workshop participants as well as input received from conformity assessment stakeholders in both the public and private sectors, NIST has developed a draft of the following materials:

• Conformity Assessment Considerations for Federal Agencies

• ABC's of Conformity Assessment

The purpose of the draft ABC's of Conformity Assessment document is to introduce conformity assessment concepts and information on how various conformity assessment activities are interlinked as well as the impact on the marketplace. The document highlights some of the important aspects of conformity assessment and serves as background for using available conformity assessment resources. The draft ABCs of Conformity Assessment document discusses the use of standards in conformity assessment activities; describes the types of conformity assessment activities; and identifies some of the interrelationships among conformity assessment activities.

Request for Public Comments: Persons interested in commenting on the draft ABCs of Conformity Assessment document can submit their comments by following the instructions in the DATES and ADDRESSES sections.

All comments will be made publicly available; therefore, personal, proprietary or confidential information should not be included. When submitting comments, inclusion of name, affiliation, and contact information (phone number and/or email address in case of questions about the comment) are optional. Comments containing references, studies, research, and other empirical data that are not widely published should include copies of the referenced materials.

Kevin Kimball,
NIST Chief of Staff.

[FR Doc. 2017-27891 Filed 12-26-17; 8:45 am]

BILLING CODE 3510-13-P